DEPARTMENT OF THE INTERIOR

Minerals Management Service

Agency Information Collection Activities: Proposed Collection; Comment Request

AGENCY: Minerals Management Service (MMS), Interior.

ACTION: Notice of extension of an information collection (1010-0091).

SUMMARY: To comply with the Paperwork Reduction Act of 1995 (PRA), MMS is inviting comments on a collection of information that we will submit to the Office of Management and Budget (OMB) for review and approval. The information collection request (ICR) concerns the paperwork requirements in the regulations under 30 CFR 254, “Oil-Spill Response Requirements for Facilities Located Seaward of the Coast Line.”

DATES: Submit written comments by June 9, 2006.

ADDRESSES: You may submit comments by any of the following methods listed below. Please use the Information Collection Number 1010-0091 as an identifier in your message.

• Public Connect on-line commenting system, https://ocsconnect.mms.gov. Follow the instructions on the Web site for submitting comments.

• E-mail MMS at rules.comments@mms.gov. Identify with Information Collection Number 1010-0091 in the subject line.

• Fax: 703-787-1093. Identify with Information Collection Number 1010-0091.

• Mail or hand-carry comments to the Department of the Interior; Minerals Management Service; Attention: Rules Process Team (RPT); 381 Elden Street, MS-4024; Herndon, Virginia 20170-4817. Please reference “Information Collection 1010-0091” in your comments.

FOR FURTHER INFORMATION CONTACT: Cheryl Blundon, Rules Processing Team at (703) 787-1600. You may also contact Cheryl Blundon to obtain a copy, at no cost, of the regulations that require the subject collection of information.

SUPPLEMENTARY INFORMATION: Title: 30 CFR 254, Oil-Spill Response Requirements for Facilities Located Seaward of the Coast Line.

OMB Control Number: 1010-0091.

Abstract: The Federal Water Pollution Control Act, as amended by the Oil Pollution Act of 1990 (OPA), requires that a spill-response plan be submitted for offshore facilities prior to February 18, 1993. The OPA specifies that after that date, an offshore facility may not handle, store, or transport oil unless a plan has been submitted. This authority and responsibility have been delegated to the Minerals Management Service (MMS). Regulations at 30 CFR 254 establish requirements for spill-response plans for oil-handling facilities seaward of the coast line, including associated pipelines.

The MMS uses the information collected under 30 CFR 254 to determine compliance with OPA by owners/operators. Specifically, MMS needs the information to:

• Determine effectiveness of the spill-response capability of owners/operators;

• Review plans prepared under the regulations of a State and submitted to MMS to satisfy the requirements of this rule to ensure that they meet minimum requirements of OPA;

• Verify that personnel involved in oil-spill response are properly trained and familiar with the requirements of the spill-response plans and to witness spill-response exercises;

• Assess the sufficiency and availability of contractor equipment and materials;

• Verify that sufficient quantities of equipment are available and in working order;

• Oversee spill-response efforts and maintain official records of pollution events; and

• Assess the efforts of owners/operators to prevent oil spills or prevent substantial threats of such discharges.

We will protect information from respondents considered proprietary under the Freedom of Information Act (5 U.S.C. 552) and its implementing regulations (43 CFR part 2) and under regulations at 30 CFR parts 250, 251, and 252. Responses are mandatory or required to obtain or retain a benefit.

Frequency: On occasion and annual.

Estimated Number and Description of Respondents: Approximately 193 owners or operators of facilities located in both State and Federal waters seaward of the coast line.

Estimated Reporting and Recordkeeping “Hour” Burden: The currently approved annual reporting burden for this collection is 38,322 hours. The following chart details the individual components and respective hour burden estimates of this ICR. In calculating the burdens, we assumed that respondents perform certain requirements in the normal course of their activities. We consider these to be usual and customary and took that into account in estimating the burden.

Citation 30 CFR 254 | Reporting requirement | Hour burden
254.1(a) thru (d); 254.2(a); 254.3 thru 254.5; 254.7; 254.20 thru 254.29; 254.44(b) | Submit spill response plan for OCS facilities and related documents | 120
254.1(e) | Request MMS jurisdiction over facility landward of coast line (no recent request received) | 0.5
254.2(b) | Submit certification of capability to respond to worst case discharge or substantial threat of such | 15
254.2(c); 254.30 | Submit revised spill response plan—or notify MMS of no change—for OCS facilities at least every 2 years | 36
254.2(c) | Request deadline extension for submission of revised plan | 4
254.8 | Appeal MMS orders or decisions. (Exempt under 5 CFR 1320.4) | 0
254.40 | Make records of all OSRO-provided services, equipment, personnel available to MMS | 5
254.41 | Ensure attendance of annual training; retain training records for 2 years | 50
254.42(a) thru (e) | Conduct triennial response plan exercise; retain exercise records for 3 years | 110
254.42(f) | Inform MMS of the date of any exercise (triennial) | 1
254.43 | Inspect response equipment monthly; retain inspection & maintenance records for 2 years | 3.5
254.46(a) | Notify NRC of all oil spills from owner/operator facility. (Burden would be included in NRC inventory.) | 0
254.46(b) | Notify MMS of oil spills of one barrel or more from owner/operator facility; submit follow-up report | 2
254.46(c) | Notify MMS & responsible party of oil spills from operations at another facility | 2
254.50; 254.51 | Submit response plan for facility in State waters by modifying existing OCS plan | 42
254.50; 254.52 | Submit response plan for facility in State waters following format for OCS plan | 100
254.50; 254.53 | Submit response plan for facility in State waters developed under State requirements | 89
254.54 | Submit description of oil-spill prevention procedures | 5

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: MMS's practice is to make comments, including names and addresses of respondents, available for public review. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz, (202) 208-7744.

Dated: March 30, 2006.
E.P. Danenberger,
Chief, Office of Offshore Regulatory Programs.

[FR Doc. E6-5136 Filed 4-7-06; 8:45 am]

BILLING CODE 4310-MR-P